DEPARTMENT OF HEALTH AND HUMAN SERVICES

Health Resources and Services Administration

National Advisory Council on Nurse Education and Practice; Meeting Cancellation

AGENCY: Health Resources and Services Administration; Department of Health and Human Services.

ACTION: Notice of meeting cancellation.

SUMMARY: This is to notify the public that the previously scheduled September 24, 2019, meeting of the National Advisory Council on Nurse Education and Practice (NACNEP) is cancelled. This meeting was announced in the Federal Register, Vol. 84, No. 45 on Thursday, March 7, 2019 (FR Doc. 2019-04074 Filed 3-6-19). Future meetings will occur in calendar year 2020 and be announced through the Federal Register at a later date.

FOR FURTHER INFORMATION CONTACT: Tracy L. Gray, MBA, MS, RN, Chief, Advanced Nursing Education Branch, Designated Federal Officer, NACNEP, 5600 Fishers Lane, Rockville, Maryland 20857, telephone: (301) 945-3113 or email: BHWNACNEP@hrsa.gov.

Maria G. Button,
Director, Division of the Executive Secretariat.

[FR Doc. 2019-15894 Filed 7-25-19; 8:45 am]

BILLING CODE 4165-15-P